DEPARTMENT OF THE INTERIOR

Fish and Wildlife Service

Receipt of Application of Endangered Species Recovery Permits

AGENCY: Fish and Wildlife Service, Interior.

ACTION: Notice of availability and receipt of applications.

SUMMARY: We announce our receipt of applications to conduct certain activities pertaining to enhancement of survival of endangered species.

DATES: Written comments on this request for a permit must be received by January 25, 2007.

ADDRESSES: Written data or comments should be submitted to the Assistant Regional Director-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. All comments received from individuals become part of the official public record.

SUPPLEMENTARY INFORMATION: The following applicants have requested issuance of enhancement of survival permits to conduct certain activities with endangered species pursuant to section 10(a)(1)(A) of the Endangered Species Act of 1973, as amended (16 U.S.C. 1531 et seq.).

Applicant: Toronto Zoo, Scarborough, Ontario, Canada, TE-051841, Hutchinson Zoo, Hutchinson, Kansas, TE-051824, and Elmwood Park Zoo, Norristown, Pennsylvania, TE-053485. The applicants request renewal of permits to possess captive-reared black-footed ferrets (Mustela nigripes) for public display and propagation in conjunction with recovery activities for the purpose of enhancing its survival and recovery.

Applicant: Dakota Zoological Society, Inc., Bismarck, North Dakota, TE-051815. The applicant requests renewal of a permit to possess captive-reared black-footed ferrets (Mustela nigripes) and hatchery-reared pallid sturgeon (Scaphirhynchus albus) for public display and propagation in conjunction with recovery activities for the purpose of enhancing their survival and recovery.

Applicant: Colorado Division of Wildlife, Native Aquatic Species Facility, Alamosa, Colorado, TE-047290. The applicant requests renewal of a permit to possess captive-reared bonytail (Gila elegans) and razorback sucker (Xyrauchen texanus) for public display and propagation in conjunction with recovery activities for the purpose of enhancing their survival and recovery.

Applicant: Kirby Carroll, Buys and Associates, Littleton, Colorado, TE-056165. The applicant requests a renewed permit to take Mexican spotted owls (Strix occidentalis lucida) and Southwestern willow flycatchers (Empidonax traillii extimus) in conjunction with recovery activities throughout the species' range for the purpose of enhancing their survival and recovery.

Applicant: U.S. Fish and Wildlife Service, Saratoga National Fish Hatchery, Saratoga, Wyoming, TE-052204. The applicant requests a renewed permit to take Wyoming toad (Bufo baxteri) in conjunction with recovery activities throughout the species' range for the purpose of enhancing its survival and recovery.

Dated: November 14, 2006.
James J. Slack,
Deputy Regional Director, Denver, Colorado.

[FR Doc. E6-22035 Filed 12-22-06; 8:45 am]

BILLING CODE 4310-55-P